DEPARTMENT OF ENERGY

Federal Energy Regulatory Commission

Privacy Act of 1974: Notice of New System of Records

September 16, 2009.

AGENCY: Federal Energy Regulatory Commission, DOE.

ACTION: Notice of new system of records.

SUMMARY: The Federal Energy Regulatory Commission (the Commission), under the requirements of the Privacy Act of 1974, 5 U.S.C. 552a, is publishing a description of a new system of records.

ADDRESSES: Comments and requests for further information should be directed to the following address: Director, Division of Payroll, Application and Integration, Office of the Executive Director, Federal Energy Regulatory Commission, 888 First Street, NE., Washington, DC 20426.

FOR FURTHER INFORMATION CONTACT: Jennifer Nye, Director, Division of Payroll, Application and Integration, Office of the Executive Director, 888 First Street, NE., Washington, DC 20426, (202) 502-6679.

SUPPLEMENTARY INFORMATION:

I. Report on the New System

A. Background

The Privacy Act of 1974, 5 U.S.C. 552a, requires that each agency publish a notice of the existence and character of each new or altered “system of records.” 5 U.S.C. 552a(a)(5). This Notice identifies and describes the Commission's new system of records. A copy of this report has been distributed to the Speaker of the House of Representatives and the President of the Senate as the Act requires. The Commission has adopted a new system of records under the Privacy Act of 1974. This system does not duplicate any existing agency system. The notice includes for the system of records the name; location; categories of individuals on whom the records are maintained; categories of records in the system; authority for maintenance of the system; each routine use; the policies and practices governing storage, retrievability, access controls, retention and disposal; the title and business address of the agency official responsible for the system of records; procedures for notification, access and contesting the records of each system; and the sources for the records in the system. 5 U.S.C. 552(a)(4).

B. New System of Records

FERC-56 Management, Administrative, and Payroll System (MAPS) Financials System

FERC-56 SYSTEM NAME:

MAPS Financials

SECURITY CLASSIFCATION:

Unclassified.

SYSTEM LOCATION:

Federal Energy Regulatory Commission, Office of the Executive Director, 888 First Street, NE, Washington, DC 20426.

CATEGORIES OF INDIVIDUALS COVERED BY THE SYSTEM:

Current and former employees.

CATEGORIES OF RECORDS IN THE SYSTEM:

Individual's name.

AUTHORITY FOR MAINTENANCE OF THE SYSTEM:

31 U.S.C. 3511.

PURPOSE(S):

For reimbursement by agency to employees' bank accounts for incurred allowable expenses while on official travel.

ROUTINE USES OF RECORDS MAINTAINED IN THE SYSTEM, INCLUDING CATEGORIES OF USERS AND THE PURPOSES OF SUCH USES:

To facilitate the automatic payment to agency employees for allowable expenses previously incurred while on official travel.

DISCLOSURE TO CONSUMER REPORTING AGENCIES:

None.

POLICIES AND PRACTICES FOR STORING, RETRIEVING, ACCESSING, RETAINING, AND DISPOSING OF RECORDS IN THE SYSTEM:

STORAGE:

Paper and computer.

RETRIEVABILITY:

By individual's name and social security number.

SAFEGUARDS:

Paper records are stored in a locked room with access limited to those employees whose official duties require access. Computer data is backed up, password protected and limited to employees with a requirement to access and maintain it.

RETENTION AND DISPOSAL:

Records are maintained for 6 years and 3 months after the period covered by the account, and then are destroyed.

SYSTEM MANAGER(S) AND ADDRESS:

Director, Division of Payroll, Application and Integration, Office of the Executive Director, Federal Energy Regulatory Commission, 888 First Street, NE., Washington, DC 20426, (202) 502-6679.

NOTIFICATION PROCEDURE:

Requests from individuals to determine if a system of records contains information about them should be directed to the System Manager.

RECORD ACCESS PROCEDURES:

Same as notification procedure above.

CONTESTING RECORD PROCEDURES:

Same as notification procedure above.

RECORD SOURCE CATEGORIES:

Employee.

EXEMPTIONS CLAIMED FOR THE SYSTEM:

None.

Kimberly D. Bose,
Secretary.

[FR Doc. E9-22854 Filed 9-22-09; 8:45 am]

BILLING CODE 6717-01-P